DEPARTMENT OF DEFENSE

Department of the Navy

[Docket ID USN-2010-0037]

Privacy Act of 1974; System of Records

AGENCY: Department of the Navy; DoD.

ACTION: Notice to add a system of records.

SUMMARY: The Department of the Navy proposes to add a system of records in its inventory of record systems subject to the Privacy Act of 1974 (5 U.S.C. 552a), as amended.

DATES: The changes will be effective on November 19, 2010, unless comments are received that would result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Robin Patterson, (202) 685-6545.

SUPPLEMENTARY INFORMATION: The Department of the Navy systems of records notices subject to the Privacy Act of 1974, (5 U.S.C. 552a), as amended, have been published in the Federal Register and are available from Robin Patterson, FOIA/Privacy Act Policy Branch, the Department of the Navy, 2000 Navy Pentagon, Washington, DC 20350-2000.

The proposed systems report, as required by 5 U.S.C. 552a(r) of the Privacy Act of 1974, as amended, was submitted on October 7, 2010, to the House Committee on Government Report, the Senate Committee on Homeland Security and Governmental Affairs, and the Office of Management and Budget (OMB) pursuant to paragraph 4c of Appendix I to OMB Circular No. A-130, “Federal Agency Responsibilities for Maintaining records About Individual,” dated February 8, 1996 (February 20, 1996; 61 FR 6427).

Dated: October 14, 2010.
Mitchell S. Bryman,
Alternate OSD Federal Register Liaison Officer, Department of Defense.

N05230-1

System Name:

Total Workforce Management Services (TWMS)

System Location:

Commander, Navy Installations Command, Service Delivery Point, Grace Hopper Ctr, Bldg 1482, Read Road, NAS North Island, San Diego, CA 92135-7056.

Fail-over servers are located at: Naval Base Norfolk, Building W143, Room 647A, 1968 Gilbert Street, Norfolk, VA 23511.

Organizational elements of the Department of the Navy. Official mailing addresses are published as an appendix to the Navy's compilation of systems of records notices and can be found at http://doni.daps.dla.mil/sndl.aspx.

Categories of Individuals Covered by the System:

Active duty and Reservists, appropriated and nonappropriated civilian personnel, Navy contract personnel, other DoD and federal personnel assigned to Navy commands.

Categories of Records in the System:

Personnel employment information (name, Social Security Number (SSN)), internally generated record ID number), law enforcement information, medical information, recall and contact information (personal cell telephone number, home telephone number, personal e-mail address, mailing/home address), emergency contact information, personnel demographic information (gender, race/ethnicity, birth date, religious preference, disability information), completed and required training information education information, skills, certifications and competencies required, certifications and skills acquired, security clearance information (citizenship, place of birth), work history, leave and payroll information, marital status, assigned billet information, personnel accountability information, assigned asset information, awards and qualifications information, dependant information including age and co-location indicator for emergency evacuation procedures and Morale, Welfare and Recreation (MWR) demographic accounting.

Authority for Maintenance of the System:

10 U.S.C. 5013, Secretary of the Navy; 10 U.S.C. 5041, Headquarters, Marine Corps; CNICINST 5230.1, Total Workforce Management Services; OPNAVINST 3440.17, Navy Installation Emergency Management Program and E.O. 9397 (SSN), as amended.

Purpose:

Allows authorized budget submitting office/claimant and subordinate commands financial management personnel, human resources specialists, administrative support personnel, and supervisors to manage their entire workforce from one single web based interface utilizing one consolidated data warehouse.

Routine Uses of Records Maintained in the System, Including Categories of Users and the Purposes of Such Uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of Department of Navy compilation of systems of records notices apply to this system.

Policies and Practices for Storing, Retrieving, Accessing, Retaining, and Disposing of Records:

Storage:

Electronic storage media.

Retrievability:

Name, Social Security Number (SSN), Internal assigned employee ID, Billet ID number.

Safeguards:

Access to data is multi-tiered and based on a need to know, and is managed by a designated command representative knowledgeable in the area of that command's total workforce. The first tier of a user account is profile based, which limits the user to specific employee types and/or data. Users in a specific profile cannot view data outside of that profile's restriction. The second tier further restricts access by use of permissions, which allow a user specific access to application functions. Physical access to terminals, terminal rooms, buildings and activities' grounds are controlled by locked terminals and rooms, guards, personnel screening and visitor registers. Password complexity, expiration, minimum length, and history, as well as use of profiles and permissions assists in assuring only appropriate personnel have access to data.

Retention and Disposal:

PERMANENT. Retire to Washington National Records Center (WNRC) when 4 years old, then are transferred to the National Archives and Records Administration (NARA) when 20 years old.

System Manager(s) and Address(es):

Commander Navy Installations Command, 716 Sicard St., SE., Suite 1000, Washington Navy Yard, DC 20374-5140.

Notification Procedure:

Individuals seeking to determine whether this system of records contains information about themselves should address written inquiries to TWMS Support & Mgmt, Commander Navy Installations Command, 716 Sicard St., SE., Suite 1000, Washington Navy Yard, DC 20374-5140.

The request should be signed and include full name, dates of service, Social Security Number (SSN), and a complete return mailing address.

The system manager may require an original signature or a notarized signature as a means of proving the identity of the individual requesting access to the records.

Department of Navy individuals may also review their records online by using their DoD issued Common Access Card (CAC) at a CAC enabled computer at https://twms.nmci.navy.mil/selfservice.

Record Access Procedure:

Individuals seeking access to records about themselves contained in this system of records should address written inquiries to TWMS Support & Mgmt, Commander Navy Installations Command, 716 Sicard St., SE., Suite 1000, Washington Navy Yard, DC 20374-5140.

The request should be signed and include full name, dates of service, Social Security Number (SSN), and a complete return mailing address.

The system manager may require an original signature or a notarized signature as a means of proving the identity of the individual requesting access to the records.

Department of Navy individuals may also review their records online by using their DoD issued Common Access Card (CAC) at a CAC enabled computer at https://twms.nmci.navy.mil/selfservice.

Contesting Record Procedure:

The Navy's rules for accessing records, and for contesting contents and appealing initial agency determinations are published in Secretary of the Navy Instruction 5211.5; 32 CFR part 701; or may be obtained from the system manager.

Record Source Categories:

Information is obtained primarily from official Department of Navy and Department of Defense official programs of record; Defense Civilian Personnel Data System (DCPDS), Scientific Applied Programs (SAP-HR), PeopleSoft HR, Navy Standard Information Processing System (NSIPS), Navy Department Awards Web Service (NDAWS), Contractor Verification Systems (CVS)/DEERS, Navy Training Management & Planning System (NTMPS), and Total Force Manpower Management System (TFMMS) and from the individual and/or support staff.

Exemptions Claimed for the System:

None.

[FR Doc. 2010-26354 Filed 10-19-10; 8:45 am]

BILLING CODE 5001-06-P